DEPARTMENT OF LABOR

Employment and Training Administration

[TA-W-62,418]

Computer Sciences Corporation, Dallas, Texas; Notice of Termination of Investigation

Pursuant to section 221 of the Trade Act of 1974, as amended, an investigation was initiated on November 6, 2007 in response to a petition filed by a company official on behalf of workers of Computer Sciences Corporation, Dallas, Texas.

The company official has requested that the petition be withdrawn. Consequently, the investigation has been terminated.

Signed at Washington, DC, this 12th day of December, 2007.
Linda G. Poole,
Certifying Officer, Division of Trade Adjustment Assistance.

[FR Doc. E7-24544 Filed 12-18-07; 8:45 am]

BILLING CODE 4510-FN-P